NUCLEAR REGULATORY COMMISSION

[Docket Nos. 50-295 and 50-304]

Commonwealth Edison Company, Zion Nuclear Power Station, Units 1 and 2; Notice of Receipt and Availability for Comment of the Post Shutdown Decommissioning Activities Report and Notice of Public Meeting

The U.S. Nuclear Regulatory Commission (the Commission) is in receipt of and is making available for public comment, the Post-Shutdown Decommissioning Activities Report (PSDAR) for Zion Nuclear Power Station, Units 1 and 2 (ZNPS), located in Zion, Illinois.

ZNPS has been shut down since February 1997. Commonwealth Edison Company (ComEd) certified the permanent shutdown on February 13, 1998, and on March 9, 1998, certified that all fuel had been removed from the reactor vessels. In accordance with 10 CFR 50.82(a)(2), upon docketing of the certifications, the facility operating license no longer authorizes ComEd to operate the reactor or to load fuel into the reactor vessel. By letter dated February 14, 2000, ComEd submitted its PSDAR to the Commission in accordance with the requirements of 10 CFR 50.82.

In the PSDAR, ComEd has identified the planned decommissioning activities and schedule for ZNPS, provided an estimate of expected costs, and discussed the reasons for concluding that the environmental impacts associated with site-specific decommissioning activities are bounded by the appropriate previously issued environmental impact statements. ComEd has chosen to put ZNPS in a safe storage condition until 2013 at which time decontamination and dismantlement activities are scheduled to begin.

The Commission staff will conduct a public meeting at the Zion-Benton High School, 3901 21st Street, Zion, Illinois on April 26, 2000 to provide an opportunity for members of the public to raise issues and concerns related to the ZNPS PSDAR. The meeting is scheduled for 7 p.m.-10 p.m., and will be moderated by Dr. Donald Moon and Mr. Peter Cioni. This meeting is a formal part of the decommissioning process. There will be an opportunity for members of the public to ask questions of the NRC staff and ComEd representatives and to make comments related to the PSDAR. The meeting will be transcribed. For more information, contact Dino C. Scaletti, Project Directorate IV & Decommissioning, Office of Nuclear Reactor Regulation, U.S. Nuclear Regulatory Commission, Washington, DC 20555-0001; telephone 301-415-1104.

The PSDAR is available for public inspection at the Commission's Public Document Room located at the Gelman Building, 2120 L Street, NW, Washington, DC, and is accessible electronically from the ADAMS Public Library component on the NRC Web site, http://www.nrc.gov (the Electronic Reading Room).

Dated at Rockville, Maryland, this 5th day of April 2000.
For the Nuclear Regulatory Commission.
Dino C. Scaletti,
Senior Project Manager, Decommissioning Section, Project Directorate IV & Decommissioning, Division of Licensing Project Management, Office of Nuclear Reactor Regulation.

[FR Doc. 00-9060 Filed 4-11-00; 8:45 am]

BILLING CODE 7590-01-P